COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List a product and services to be furnished by nonprofit agencies employing persons who are blind or have other severe disabilities, and deletes from the Procurement List products previously furnished by such agencies.

EFFECTIVE DATE: March 27, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, telephone: (703) 603-7740, Fax: (703) 603-0655, or e-mail SKennerly@jwod.gov.

SUPPLEMENTARY INFORMATION:

Additions

On December 10, and December 30, 2004, the Committee for Purchase From People Who Are Blind or Severely Disabled published notice (69 F.R. 71777 and 78388) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Personal Hygiene Kit, 8970-00-NIB-0034.

NPA: Blind Industries & Services of Maryland, Baltimore, Maryland.

Contracting Activity: Federal Emergency Management Agency, Fort Worth, Texas.

Contracting Activity: UNICOR, Washington, DC.

Services

Service Type/Location: Base Operating Services, Defense Supply Center Richmond, 8000 Jefferson Davis Highway, Richmond, Virginia.

NPA: Goodwill Services, Inc., Richmond, Virginia.

Contracting Activity: Defense Supply Center Richmond, Richmond, Virginia.

Service Type/Location: Base Supply Center, Building T39, Fort Knox, Kentucky.

NPA: Blind Industries & Services of Maryland, Baltimore, Maryland.

Contracting Activity: Directorate of Contracting, Fort Knox, Kentucky.

Service Type/Location: Mailroom Operation, ServiceSource, Alexandria, VA (Prime Contractor), at the following location for the Nonprofit Agencies identified: Internal Revenue Service Mailroom, 4050 Alpha Road, Dallas, Texas.

NPA: Dallas Lighthouse for the Blind, Inc., Dallas, Texas.

Contracting Activity: U.S. Treasury, IRS Headquarters, Oxon Hill, Maryland.

Deletions

On December 30, 2004, the Committee for Purchase From People Who Are Blind or Severely Disabled published notice (69 FR 78388) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Staff Section, 1025-01-044-2587.

NPA: Montgomery County Chapter, NYSARC, Inc., Amsterdam, New York.

Contracting Activity: U.S. Armament & Chemical Acquisition, Rock Island, Illinois.

Product/NSN: Table, Office, Steel, 7110-00-113-0448, 7110-00-113-0454, 7110-00-149-2044, 7110-00-149-2045, 7110-00-149-2046.

NPA: Yuma WORC Center, Inc., Yuma, Arizona.

Contracting Activity: GSA, National Furniture Center, Washington, DC.

Sheryl D. Kennerly,
Director, Information Management.

[FR Doc. 05-3681 Filed 2-24-05; 8:45 am]

BILLING CODE 6353-01-P